DEPARTMENT OF STATE

[Public Notice: 10464]

Notice of Renewal of the Charter of the International Telecommunication Advisory Committee (ITAC)

This notice announces the renewal of the Charter for the International Telecommunication Advisory Committees (ITAC). In accordance with the provisions of the Federal Advisory Committee Act (Pub. L. 92-463, 5 U.S.C. Appendix) and the general authority of the Secretary of State and the Department of State set forth in Title 22 of the United States code, in particular Sections 2656 and 2707, the charter of the International Telecommunication Advisory Committee has been renewed for another two years. The ITAC consists of members of the telecommunications industry, ranging from network operators and service providers to equipment vendors, members of academia, members of civil society, and officials of interested government agencies. The ITAC provides views and advice to the Department of State on positions on international telecommunications and information policy matters. This advice has been a major factor in ensuring that the United States was well prepared to participate effectively in the international telecommunications and information policy arena, including the International Telecommunication Union (ITU), the Organization of American States Inter-American Telecommunication Commission (CITEL), the Organization for Economic Cooperation and Development (OECD), the Asia Pacific Economic Cooperation Forum Telecommunications and Information Working Group, and other international bodies addressing communication and information policy issues.

FOR FURTHER INFORMATION CONTACT: Please contact Franz Zichy at 202-647-5778, zichyfj@state.gov.

Stephan A. Lang,
Acting Director, Multilateral Affairs, Cyber and International Communications and Information Policy, U.S. Department of State.

[FR Doc. 2018-15258 Filed 7-16-18; 8:45 am]

BILLING CODE 4710-07-P